DEPARTMENT OF AGRICULTURE

Forest Service

Sheep Creek Fire Salvage, Beaverhead-Deerlodge National Forest, Beaverhead County, Montana

AGENCY: Forest Service, USDA.

ACTION: Notice of intent to prepare an environmental impact statement.

SUMMARY: The USDA, Forest Service, will prepare an environmental impact statement (EIS) to disclose the environmental effects of the salvage harvest of timber killed as a result of fire in the Canyon Creek, Boulder Creek, Cascade Creek, Sage Creek, and Runaway Creek drainages (herein referred to as the Sheep Creek Project). The project area is located 15 miles west of Wisdom, Montana, north of State Highway 43, just west of the Placer Creek Road. The project area is outside of inventoried roadless areas.

DATES: Comments concerning the scope of the analysis must be postmarked within 30 days of the date of publishing of this legal notice. The draft environmental impact statement is expected February, 2004 and the final environmental impact statement is expected June of 2004.

ADDRESSES: Written comments concerning this notice or a request to be placed on the project mailing list should be addressed to Chris Tootell, TEAMS, 200 East Broadway, suite 251, Missoula, Montana, 59807. Comments may also be sent via e-mail to r1_b-d_comments@fs.fed.us. (Please not that there is a “one” after the letter r, not an “L.”) The subject line in the e-mail message should contain the title “Sheep Creek Fire Salvage Project.” If you choose to comment by e-mail, please include your name and regular mailing address with the comment. Comments may also be sent via facsimile to (406) 689-3245, C/O Dennis Havig, Wisdom Ranger District.

All comments, including names and addresses when provided, are placed in the record and are available for public inspection and copying. The public may inspect comments received at the Wisdom Ranger District, Wisdom, MT. Visitors are encouraged to call ahead to (406) 689-3243 to facilitate entry to the building.

FOR FURTHER INFORMATION CONTACT: Chris Tootell, Environmental Resource Coordinator, TEAMS Enterprise unit, USDA Forest Service (406) 329-3459. Individuals who use telecommunication devices for the deaf (TDD) may call the Federal Information Relay Service (FIRS) at 1-800-877-8339 between 8 a.m. to 8 p.m., Eastern Standard Time, Monday through Friday.

SUPPLEMENTARY INFORMATION: The proposed project area is located within sections 4, 5, 6, 7, 8, 9 & 18, T.2S., R.17W., and sections 1, 12 and 13. T.2S., R.18W.

Purpose and Need for Action

The purpose and need for the proposed action is to move toward the desired conditions as described in the Beaverhead National Forest Land and Resource Management Plan (LRMP). The proposed action is located on lands classified as “available and suitable for timber production” (LRMP, p. III-48 and III-63). Congress has recognized the treatments; the estimated timber volume to make available from the project area; the estimated amount of temporary road construction needed; and mitigation measures and monitoring requirements.

Scoping Process

Public participation is important to this analysis. Part of the goal of public involvement is to identify additional issues and to refine the general, tentative issues. The Beaverhead-Deerlodge National Forest has developed a listing of individuals and organizations that have expressed an interest in being informed of and providing input to vegetation management and fuel redcution projects. This list of individuals and organizations include private citizens, businesses, various organizations, Native American groups, and federal, state and county agencies. All of these contacts will be sent the initial scoping document.

Preliminary Issues

The following list of preliminary issues was developed for the project area by the Forest Service Interdisciplinary Team (ID Team). This list was developed after review of issues from previous post fire management projects, including previous public involvement, and specific internal agency scoping. General categories have been used to focus key topics. This list will be amended and/or expanded after review of the Sheep Creek Project public comments. During the analysis, alternatives to the proposed action will be developed responding to the final list of issues. In response to the issues, the alternatives developed may include different levels of activity and may include different prescriptions.

• Timber sale value.

• Potential reduction of big game “security cover” within harvest units may result in a need for a nonsignificant site specific Forest Plan amendment for elk effective cover standards.

• Loss of future potential Lynx denning habitat by removal of heavy fuels.

• Potential for introduction and spread of noxious weeds from logging and log hauling.

• Potential soil disturbance.

• Residual fuel loads exceeding desired thresholds within treatment units.

• Potential for introduction of sediment to streams impacting fish species.

• Loss of habitat for snag dependent and cavity nesting species.

Comment Requested

This notice of intent initiates the scoping process which guides the development of the draft environmental impact statement, including the identification of the range of alternatives to be considered. While public participation is strictly optional at this stage, the Forest Service believes that it is important to give reviewers notice of several court rulings related to public participation in the subsequent environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate by the close of the 45 day draft environmental impact statement comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments also may address the adequacy of the draft environmental impact statement or the merits of the alternatives formulated and discussed in the statement. In addressing these points, reviewers may wish to refer to the Council on Environmental Quality regulations which implement the procedural provisions of the National Environmental Policy Act at 40 CFR 1503.3.

Dated: July 3, 2003.
Thomas K. Reilly,
Forest Supervisor.

[FR Doc. 03-17559 Filed 7-10-03; 8:45 am]

BILLING CODE 3410-11-M